DEPARTMENT OF HEALTH AND HUMAN SERVICES

National Institutes of Health

Center for Scientific Review; Amended Notice of Meeting

Notice is hereby given of a change in the meeting of the Neural Basis of Psychopathology, Addictions and Sleep Disorders Study Section, October 02, 2013, 08:00 a.m. to October 03, 2013, 05:00 p.m., Amalfi Hotel, 20 West Kinzie Street, Chicago, IL 60654 which was published in the Federal Register on September 16, 2013, 78 FR 179 Pgs. 56904-56905.

The meeting will be held at the Hyatt Regency Baltimore, 300 Light Street, Baltimore, MD 21202. The meeting will start on November 20, 2013 at 8:00 a.m. and end on November 21, 2013 at 5:00 PM. The meeting is closed to the public.

Dated: October 25, 2013.
Anna Snouffer,
Deputy Director, Office of Federal Advisory Committee Policy.

[FR Doc. 2013-25765 Filed 10-29-13; 8:45 am]

BILLING CODE 4140-01-P